NUCLEAR REGULATORY COMMISSION

10 CFR Part 72

RIN 3150-AF94

Changes, Tests, and Experiments; Correction

AGENCY: Nuclear Regulatory Commission.

ACTION: Final rule; correction.

SUMMARY: This document corrects a rulemaking appearing in the Federal Register on February 26, 2001 (66 FR 11527). This document is necessary to correct an erroneous Federal Register citation.

FOR FURTHER INFORMATION CONTACT: Jayne McCausland, Office of Nuclear Material Safety and Safeguards, Nuclear Regulatory Commission, telephone 301-415-6219, e-mail: jmm@nrc.gov.

SUPPLEMENTARY INFORMATION: On page 11527, in the first column, in the Background paragraph, in the fifth line of the paragraph, “65” is corrected to read “64”.

Dated at Rockville, Maryland, this 19th day of July 2001.
For the Nuclear Regulatory Commission.
Alzonia W. Shepard,
Acting Chief, Rules and Directives Branch, Division of Administrative Services, Office of Administration.

[FR Doc. 01-18519 Filed 7-24-01; 8:45 am]

BILLING CODE 7590-01-P